DEPARTMENT OF ENERGY

Western Area Power Administration

Reauthorization of Permits, Maintenance, and Vegetation Management on Western Area Power Administration Transmission Lines on National Forest System Lands, Colorado, Nebraska, and Utah (DOE/EIS-0442)

AGENCY: Western Area Power Administration, DOE.

ACTION: Record of decision.

SUMMARY: The Western Area Power Administration (WAPA) has determined that it will implement the proposed action, or Project, as described in the Reauthorization of Maintenance and Vegetation Management on Western Area Power Administration Transmission Lines on Forest Service Lands, Colorado, Nebraska, and Utah final environmental impact statement (Final EIS) (DOE/EIS-0442). The proposed action includes changing WAPA's vegetation management and facility maintenance practices in some rights-of-way (ROWs) along approximately 273 miles of electrical transmission lines on National Forest System (NFS) lands in Colorado, Nebraska, and Utah. The U.S. Forest Service (USFS) was a joint lead agency on the EIS and proposes to authorize the changes through new Special Use Permits (SUPs) and Operations and Maintenance (O&M) Plans. This Record of Decision (ROD) was prepared in accordance with the requirements of the National Environmental Policy Act (NEPA), Council on Environmental Quality (CEQ) regulations for implementing NEPA, and U.S. Department of Energy (DOE) NEPA regulations.

DATES: The ROD was effective when it was signed by WAPA's Administrator on December 8, 2020. All known interested parties, agencies, tribes, and the public will be notified of this ROD directly via the Project mailing list and via paid advertising, news releases, or other appropriate means.

ADDRESSES: The Final EIS, this ROD, and other Project documents are available on the Project website at https://www.wapa.gov/transmission/EnvironmentalReviewNEPA/Pages/vegetation-management.aspx.

FOR FURTHER INFORMATION CONTACT: For additional information on the Project, the EIS process or this ROD, please contact Ms. E. Lynn Burkett at Headquarters A9400, Western Area Power Administration, P.O. Box 281213, Lakewood, CO 80228-8213, email burkett@wapa.gov, telephone (720) 962-7000. For general information on the DOE NEPA review process, please contact Brian Costner, Office of NEPA Policy and Compliance, GC-54, U.S. Department of Energy, 1000 Independence Avenue SW, Washington, DC 20585-0119, email AskNEPA@hq.doe.gov, telephone (202) 586-4600 or (800) 472-2756, facsimile (202) 586-7031.

SUPPLEMENTARY INFORMATION: WAPA is a Federal power marketing administration within DOE that markets and delivers Federal wholesale electric power (principally hydroelectric power) to municipalities, rural electric cooperatives, public utilities, irrigation districts, Federal and State agencies, Native American tribes, and other wholesale customers in 15 western and central States. WAPA's Rocky Mountain Customer Service Region (RM) operates in Arizona, Colorado, most of Wyoming, and portions of Kansas, Nebraska, New Mexico, and Utah.

Background

On August 10, 1996, during a period of high temperatures and high electricity demand, a transmission line sagged into filbert trees near Portland, Oregon, leading to a cascade of power outages as far away as southern California. Executive Order 13212, Actions To Expedite Energy-Related Projects (May 18, 2001), declared the increased production and transmission of energy in a safe and environmentally sound manner to be essential to the well-being of the American people and called for the improvement and streamlining of cooperation among Federal agencies to expedite projects that would increase the production, transmission, or conservation of energy. In August 2003, the cascading results of another equipment failure led to an enormous power outage in the Northeast and Midwest, affecting approximately 45 million people in the United States and 10 million people in Ontario, Canada. The U.S.-Canada Power System Outage Task Force found that, again, transmission line sag into overgrown trees in rural Ohio sparked the outage.

In response to these outages, Congress added, as part of the Energy Policy Act of 2005 (Pub. L. 109-58), a new section 215 to the Federal Power Act. Among other things, the new section 215 authorized the Federal Energy Regulatory Commission (FERC) to certify an “Electric Reliability Organization” to create mandatory and enforceable reliability standards, subject to FERC review and approval. FERC certified the North American Electric Reliability Corporation (NERC) as the Electric Reliability Organization. The Energy Policy Act of 2005 also requires Federal agencies to expedite approvals to allow owners or operators of transmission facilities access to the facilities to comply with applicable standards, including vegetation management standards.

FERC approved NERC's original Reliability Standard, FAC-003-1, “Transmission Vegetation Management Program” (NERC Standard) on March 16, 2007,¹ and the standard became mandatory and enforceable on June 18, 2007. The most recent version of the NERC Standard is FAC-003-4, “Transmission Vegetation Management.” The revised standard was approved on April 26, 2016,² and became mandatory and enforceable on October 1, 2016.

¹ Mandatory Reliability Standards for the Bulk-Power System, Order No. 693, 118 FERC ¶ 61,218, order on reh'g, Order No. 693-A, 120 FERC ¶ 61,053 (2007).

² Letter Order Approving Reliability Standard FAC-003-4, FERC Docket No. RD16-4-000 (Apr. 26, 2016).

To enhance WAPA's compliance with NERC's Transmission Vegetation Management Reliability Standard, industry standards, and WAPA's policy and guidance, WAPA proposes to improve the way it manages vegetation along its ROWs on NFS lands in Colorado, Nebraska, and Utah. WAPA owns, operates, and maintains approximately 273 miles of transmission line ROWs on NFS lands in Colorado, Nebraska, and Utah. Specifically, the Project includes WAPA RM transmission facilities and access routes located on NFS lands managed by seven National Forests in the Rocky Mountain Region (Region 2) and one National Forest in the Intermountain Region (Region 4). These National Forests and Grasslands include the Arapahoe—Roosevelt; Ashley; Grand Mesa, Uncompahgre, and Gunnison; Medicine Bow—Routt; Pike—San Isabel; Samuel R. McKelvie; San Juan; and White River.

Purpose and Need for Agency Action

WAPA needs to improve the way it manages vegetation along its 273 miles of transmission line ROWs on NFS lands with the following purposes and objectives:

1. To ensure that WAPA can safely and reliably operate and maintain its existing electrical transmission facilities to deliver electrical power.

2. To further WAPA's compliance with NERC's Transmission Vegetation Management Reliability Standards, industry standards, and WAPA's policy and guidance.

3. To ensure that WAPA's transmission facilities remain operational for the useful life of the facilities.

4. To protect public and worker safety.

5. To reduce the risk of wildfires caused by transmission lines and the risk to the facilities from fire.

6. To control the spread of noxious weeds.

7. To maintain sound relationships with landowners and land managers.

8. To ensure that WAPA has access to its transmission facilities for maintenance and emergency response.

9. To ensure that the costs associated with maintaining the transmission system can be controlled following sound business principles, including achieving technical and economic efficiencies to minimize impacts on transmission line tariff costs and electrical power rates.

10. To allow flexibility to accommodate changes in transmission system operation and maintenance requirements.

11. To minimize impacts to environmental resources.

WAPA's Proposed Action—Proposed Project

WAPA proposes to change the way it manages vegetation in the ROWs for the transmission lines it owns, operates, or maintains. The proposed action would require the USFS to re-authorize and issue SUPs for each transmission line and authorize WAPA to manage vegetation along WAPA ROWs on NFS lands using an integrated vegetation management (IVM) approach, for which WAPA would develop new O&M Plans. This approach is based on the American National Standard Institute Tree, Shrub and Other Woody Plant Maintenance—Standard Practices (Integrated Vegetation Management, a. Electric Utility ROW (ANSI A300 (Part 7)-2006 IVM)). WAPA would control vegetation growth and fuel conditions that threaten transmission lines. The proposed action would balance the purpose of and need for agency action with the need to comply with environmental regulations and USFS requirements, address potential impacts to environmental resources, and incorporate public and agency comments. It incorporates the design features developed to protect environmental resources. It is important to note that vegetation management and maintenance of WAPA's transmission facilities has been ongoing for many years, so the proposed action merely makes these routine activities more proactive under the IVM approach.

The vegetation management proposal includes an initial treatment plan for areas that have been identified for treatment. The initial treatment would affect approximately 1,610 acres of the approximately 4,055 acres of transmission line ROWs on NFS lands.

In the EIS, WAPA identified six broad categories of existing conditions in the ROWs. The condition of the vegetation in the ROW determines whether the ROW would need to be treated soon, needs treatment over the longer term, or is unlikely to need treatment for some time. WAPA routinely monitors ROWs to determine vegetation conditions. The proposed action includes vegetation management options based on the conditions in the ROWs. Table ES-1 summarizes the six categories of ROW conditions and vegetation management.

Table ES-1—Categories of Right-of-Way Conditions and Vegetation Treatment Methods
Category | Vegetation | Examples | Frequency of treatment | Treatment methods
1 | Compatible with the transmission line | The lines span canyons and there will likely always be adequate clearance between vegetation and the transmission line conductors—even with larger mature trees; a vegetation community that is already a stable, low-growth one (e.g., grasses, forbs, bushes, and shrubs) so that vegetation at mature height is not a threat to the transmission line | None expected for the duration of the authorization, but ROW monitoring will be needed to ensure conditions have not changed. | None expected.
2 | Fast-growing incompatible species that are presently not acceptable, and over the long term, the vegetation is likely to include incompatible vegetation types that would require monitoring and treatment | Mature lodgepole pine, mature aspen, and other species on high-quality growth sites | • Initial treatment expected within 1 to 5 years. • Maintenance treatments are expected to be relatively frequent (expected 2- to 6-year return intervals). | • Accessible sites would favor use of mechanized equipment and removal of salvageable material. • Inaccessible sites would favor use of hand felling.
3 | Fast-growing incompatible species of trees that are in an acceptable condition, but over the long term, incompatible vegetation treatments would be needed | Immature lodgepole pine and aspen. Other species on high-quality growth sites | • Maintenance treatments are expected to be relatively frequent (expected 2- to 6-year return intervals, but this will vary depending on site conditions). | • Accessible sites would favor mechanized equipment, with removal of salvageable material. • Inaccessible sites would favor use of hand felling.
4 | Slow-growing incompatible species of mature vegetation that is not acceptable, and over the long term, treatments for incompatible vegetation would be needed to control re-growth | Mature spruce and fir. Other species on harsh sites | • Initial treatment is expected within 2 to 5 years, depending on site conditions and vegetation growth. • Maintenance treatments are expected to be relatively infrequent on sites with incompatible species with slow growth rates, perhaps 5 or more years, depending on site conditions. | • On sites with good access, mechanized equipment would be favored, and salvageable material would be removed. • On sites with poor access, hand felling and other manual methods would typically be used.
5 | These sites have slow-growing incompatible species, and the ROW is in an acceptable condition; but over the long term, the incompatible species would need to be monitored and treated | Immature spruce and fir. Other incompatible species on harsh sites | • Maintenance treatments are expected to be relatively infrequent, perhaps 5 years or longer, depending on site conditions. | • On sites with good access, mechanized equipment would be favored, and salvageable material would be removed. • On sites with poor access, hand felling and other manual methods would typically be used.
6 | Treatments in these areas of ROW are driven largely by the conditions of the fuel load. Typically, they include areas with low-growing vegetation types characterized by having high fuel loads. Sites are characterized by dense, woody vegetation capable of high-intensity fire, with transmission lines having relatively low conductor-to-ground clearances | Sagebrush, Gambel oak, dense lodgepole regeneration, and pinyon and juniper pine | • Initial treatments are expected. This could include mechanical removal of vegetation near structures and from areas of the ROW. • Maintenance treatments as needed. Need is determined from ROW monitoring. | • In areas with good access, mechanized treatment such as mowing would be favored. • In areas with poor access, manual treatments would typically be used. • Gambel oak could be treated with herbicides.

These areas are proposed for mechanical treatment to remove incompatible tall-growth species, while addressing a buildup of fuels from several decades of previous vegetation management activities. Treatments could include logging, chipping, and grinding of trees and existing debris using mechanized equipment and other activities developed in coordination with the USFS. Following completion of the initial treatment in an area, the ROW would be maintained in a desired condition that is generally defined by a lack of incompatible vegetation species. The desired condition depends on the ROW conditions and incorporates design features that protect sensitive resources. As a joint-lead agency, and in support of WAPA's proposed action, the USFS would re-authorize and issue SUPs for each transmission line and authorize WAPA to manage vegetation and conduct maintenance activities along WAPA ROWs on NFS lands. The USFS would permit these activities through new SUPs and O&M Plans. Each specific WAPA vegetation management or maintenance activity would be assessed by the USFS prior to initiation using a process defined in O&M Plans developed in conjunction with the SUPs.

Alternatives

WAPA and the USFS evaluated a no action alternative that would leave the existing WAPA vegetation management and maintenance activities in place under the existing USFS permits and O&M Plans. This alternative would not meet WAPA's purpose and need or the objectives given above. The environmentally-preferred and agency-preferred alternative is the proposed action. While initial treatment activities would cause higher impacts than no action, over the long term, after the desired conditions are achieved, the wildfire hazard would be much reduced and vegetation management activities would be less intensive and less frequent. Overall, resource impacts would be substantially lower compared with no action. All practicable means of avoiding or minimizing environmental impacts have been incorporated into the proposed action and its related standard maintenance practices, and specific additional resource protections may be included in the new SUPs, WAPA's O&M Plans, and individual action reviews.

WAPA and the USFS considered an option to remove all tall-growing trees from the ROWs to maximize transmission line reliability and minimize wildfire hazard. However, vegetation conditions and terrain vary, and not all areas require the same treatment efforts. Where conductor clearances allow, such as spanning a drainage, taller vegetation can be allowed to remain in the ROW. This approach is included in the proposed action, and reduces resource impacts, visual effects, wildlife habitat impacts, and vegetation management costs. Similarly, an option to prohibit the use of herbicides was considered. This option would reduce WAPA's ability to control incompatible vegetation and noxious weeds efficiently and effectively. Herbicide use can be done in an environmentally responsible way with minimal impact. Selective proper use of herbicides would reduce the number of vegetation management cycles and associated environmental impacts and allow the ROWs to reach the desired conditions more quickly.

Public Involvement

The Notice of Intent (NOI) was published in the Federal Register on April 8, 2010, launching the scoping process that extended through May 26, 2010. The NOI invited public participation in the EIS scoping process and solicited public comments on the scope and content of the EIS. WAPA and the USFS solicited comments from Federal, State, and local agencies; tribal governments; other organizations; and the public, and announced opportunities to comment in various local news media. Chapter Four of the Final EIS lists agencies, organizations, and people who received copies.

In April 2010, WAPA and the USFS hosted three public scoping meetings in Denver and Grand Junction, Colorado, and Vernal, Utah, which provided the public an opportunity to comment and ask questions about the Project and EIS development. Before each public meeting, WAPA and the USFS held interagency scoping meetings.

The Notice of Availability (NOA) for the Draft EIS was published in the Federal Register on September 27, 2013. One public meeting was held in Denver, Colorado, on October 23, 2013; there were no attendees. WAPA and the Forest Service received four comment letters; two of the letters expressed support for the Project. The U.S. Department of the Interior letter indicated no comments on the Project, and the Environmental Protection Agency letter indicated a rating of Lack of Objections (LO) for the Project. No comments were received from the general public or tribes.

The USFS has a pre-decisional objection process that follows the release of certain environmental documents, in this case the Final EIS. The objection filing period was 45 days, and no objections were filed during that time.

Decision

Informed by the analyses and environmental impacts documented in the Final EIS and related consultations, WAPA has selected the proposed action identified in the Final EIS as its decision for the Project. The proposed action will be the basis for the preparation of revised SUPs and associated O&M Plans.

This ROD was prepared in accordance with the requirements of the CEQ regulations for implementing NEPA (40 CFR parts 1500-1508) and the DOE NEPA regulations (10 CFR part 1021).

Signing Authority

This document of the Department of Energy was signed on December 8, 2020, by Mark A. Gabriel, Administrator, Western Area Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 15, 2020.
Treena V. Garrett,
Federal Register Liaison Officer, U.S. Department of Energy.

[FR Doc. 2020-28016 Filed 12-18-20; 8:45 am]

BILLING CODE 6450-01-P